ENVIRONMENTAL PROTECTION AGENCY

40 CFR Part 52

[FL-82-200309(w); FRL-7466-4]

Approval and Promulgation of Implementation Plans for Florida: Withdrawal of Direct Final Rule

AGENCY: Environmental Protection Agency (EPA).

ACTION: Withdrawal of direct final rule.

SUMMARY: Due to adverse comment, EPA is withdrawing the direct final rule published January 27, 2003, (see 68 FR 3817) approving revisions to the Florida State Implementation Plan. The purpose of the revision to rule 62-212.400 was to correct discrepancies between State and Federal rule language on exemptions from Prevention of Significant Deterioration and to include additional provisions. EPA stated in the direct final rule that if EPA received adverse comment by February 26, 2003, the rule would be withdrawn and not take effect. EPA subsequently received adverse comment. EPA will address the comment in a subsequent final action based upon the proposed action published on January 27, 2003 (see 68 FR 3847). EPA will not institute a second comment period on this action.

DATES: The direct final rule is withdrawn as of March 13, 2003.

FOR FURTHER INFORMATION CONTACT: Heidi LeSane, Air Planning Branch, U.S. Environmental Protection Agency Region 4, 61 Forsyth Street, SW., Atlanta, Georgia 30303-8960. Phone number: 404/562-9035; E-mail: lesane.heidi@epa.gov.

List of Subjects in 40 CFR Part 52

Environmental protection, Air pollution control, Intergovernmental relations, Ozone, Particulate matter, Reporting and recordkeeping requirements, Volatile organic compounds.

Dated: March 6, 2003.
J.I. Palmer, Jr.,
Regional Administrator, Region 4.

[FR Doc. 03-6111 Filed 3-12-03; 8:45 am]

BILLING CODE 6560-50-P